DEPARTMENT OF COMMERCE

Foreign-Trade Zones Board

[B-23-2017]

Foreign-Trade Zone (FTZ) 203—Moses Lake, Washington; Revision to Production Authority SGL Automotive Carbon Fibers, LLC (Carbon Fiber), Moses Lake, Washington

On March 30, 2017, SGL Automotive Carbon Fibers, LLC (SGLACF), submitted a notification of proposed revision to existing production authority to the FTZ Board for its facility within FTZ 203—Site 3, in Moses Lake, Washington.

The notification was processed in accordance with the regulations of the FTZ Board (15 CFR part 400), including notice in the Federal Register inviting public comment (82 FR 18105, April 17, 2017). On July 28, 2017, the applicant was notified of the FTZ Board's decision that no further review of the proposed revision—involving SGLACF's admission of all foreign-status status polyacrylonitrile (PAN) fiber in privileged foreign status (19 CFR 146.41)—is warranted at this time. The proposed revision described in the notification was authorized, subject to the FTZ Act and the FTZ Board's regulations, including Section 400.14. For U.S. entry of carbon fiber produced in the FTZ, SGLACF will make duty payment at the polyacrylonitrile (PAN) fiber duty rate on the full value of PAN fiber introduced into the production process, including making duty payment at the PAN fiber duty rate on an estimated value of PAN fiber contained in scrap resulting from the production process (based on the actual percentage of scrap and the PAN to carbon fiber ratio from the preceding year's production).

Dated: August 9, 2017.
Andrew McGilvray,
Executive Secretary.

[FR Doc. 2017-17199 Filed 8-14-17; 8:45 am]

BILLING CODE 3510-DS-P